DEPARTMENT OF TRANSPORTATION

Federal Transit Administration

Limitation on Claims Against Proposed Public Transportation Projects

AGENCY: Federal Transit Administration (FTA), DOT.

ACTION: Notice.

SUMMARY: This notice announces final environmental action taken by the Federal Transit Administration (FTA) for a project from the City of Gary to Michigan City, Indiana. The purpose of this notice is to announce publicly the environmental decision by FTA on the subject project and to activate the limitation on any claims that may challenge this final environmental action.

DATES: By this notice, FTA is advising the public of final agency actions subject to 23 U.S.C. 139(l). A claim seeking judicial review of FTA actions announced herein for the listed public transportation project will be barred unless the claim is filed on or before April 18, 2019.

FOR FURTHER INFORMATION CONTACT: Nancy-Ellen Zusman, Assistant Chief Counsel, Office of Chief Counsel, (312) 353-2577 or Juliet Bochicchio, Environmental Protection Specialist, Office of Environmental Programs, (202) 366-9348. FTA is located at 1200 New Jersey Avenue SE, Washington, DC 20590. Office hours are from 9:00 a.m. to 5:00 p.m., Monday through Friday, except Federal holidays.

SUPPLEMENTARY INFORMATION: Notice is hereby given that FTA has taken final agency action by issuing certain approvals for the public transportation project listed below. The action on the project, as well as the laws under which such action was taken, are described in the documentation issued in connection with the project to comply with the National Environmental Policy Act (NEPA) and in other documents in the FTA environmental project file for the project. Interested parties may contact either the project sponsor or the relevant FTA Regional Office for more information. Contact information for FTA's Regional Offices may be found at https://www.fta.dot.gov.

This notice applies to all FTA decisions on the listed project as of the issuance date of this notice and all laws under which such action was taken, including, but not limited to, NEPA [42 U.S.C. 4321-4375], Section 4(f) requirements [23 U.S.C. 138, 49 U.S.C. 303], Section 106 of the National Historic Preservation Act [54 U.S.C. 306108], and the Clean Air Act [42 U.S.C. 7401-7671q]. This notice does not, however, alter or extend the limitation period for challenges of project decisions subject to previous notices published in the Federal Register. The project and action that is the subject of this notice follow:

Project name and location: Double Track Northwest Indiana Project, Gary to Michigan City, Indiana. Project sponsor: Northern Indiana Commuter Transportation District. Project description: The Double Track Northwest Indiana (DT-NWI) Project proposes to expand the South Shore Line (SSL) commuter line railroad capacity along an approximately 26.6-mile corridor from Gary at milepost 58.8, west of Virginia Street, to milepost 32.2 near Carroll Avenue in Michigan City, Indiana. The Northern Indiana Commuter Transportation District (NICTD) proposes to expand the existing SSL capacity to meet current and future commuter ridership demand through construction of a continuous double track railroad system (14.2 miles of a second mainline and five high-speed crossovers), removal/replacement of in-street tracks, four bridges, five station improvements with associated track improvements, one new crossing diamond, replacement of an existing crossing diamond, and installation of signal and overhead contact system infrastructure. This notice applies only to the discrete action taken by FTA at this time, as described below. Nothing in this notice affects FTA's previous decisions, or notice thereof, for this project. Final agency actions: Section 4(f) determination, dated September 18, 2017; Section 106 finding of adverse effect, dated August 31, 2017; A Section 106 Memorandum of Agreement, dated December 8, 2017; project-level air quality conformity, and Finding of No Significant Impact for the Double Track Northwest Indiana Project, Gary to Michigan City, Indiana, dated November 1, 2018. Supporting documentation: Environmental Assessment and Section 4(f) Evaluation for NICTD Double Track NWI (DT-NWI) Milepost (MP) 58.8 to MP 32.2 dated, September 18, 2017.

Elizabeth S. Riklin,
Deputy Associate Administrator for Planning and Environment.

[FR Doc. 2018-25132 Filed 11-16-18; 8:45 am]

BILLING CODE P